DEPARTMENT OF AGRICULTURE

Submission for OMB Review; Comment Request

March 15, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 19, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Food Safety Behaviors and Consumer Education Focus Group Research.

OMB Control Number: 0583—New.

Summary of Collection: The Food Safety and Inspection Service (FSIS) has been delegated the authority to exercise the functions of the Secretary (7 CFR 2.18, 2.53) as Specified in the Federal Meat Inspection Act (FMIA) (21 U.S.C. 601 et seq.), the Poultry Products Inspection Act (PPIA) (21 U.S.C. 451, et seq.). These statues mandate that FSIS protect the public by ensuring that meat and poultry products are safe, wholesome, and not adulterated, and correctly labeled and packaged. FSIS, Office of Public Affairs and Consumer Education (OPACE) ensures that all segments of the farm-to-table chain receive valuable food safety information. The consumer education programs developed by OPACE's Food Safety Education Staff inform the public on how to safely handle, prepare, and store meat, poultry, and processed egg products to minimize incidence of foodborne illness. OPACE strives to continuously increase consumer awareness of recommended food safety practices with the intent to improve food-handling behaviors at home.

Need and Use of the Information: Information will be collected using focus groups. The focus groups will provide OPACE with the information needed to develop and disseminate effective messaging to help reduce foodborne illness attributed to the consumption of raw or undercooked meat and poultry. The lack of information would impede the Agency's ability to provide more useful information to consumers to help reduce foodborne illness in the United States.

Description of Respondents: Individuals or households.

Number of Respondents: 1,280.

Frequency of Responses: Reporting: Other (once).

Total Burden Hours: 410.

Ruth Brown,
Departmental Information Collection Clearance Officer.

[FR Doc. 2018-05595 Filed 3-19-18; 8:45 am]

BILLING CODE 3410-DM-P